INTERNATIONAL TRADE COMMISSION

[Investigation No. 337-TA-1188]

Certain Pick-Up Truck Folding Bed Cover Systems and Components Thereof; Commission Determination Not To Review an Initial Determination Terminating the Investigation Based Upon Withdrawal of the Complaint; Termination of the Investigation

AGENCY: U.S. International Trade Commission.

ACTION: Notice.

SUMMARY: Notice is hereby given that the U.S. International Trade Commission (the “Commission”) has determined not to review an initial determination (“ID”) (Order No. 18) granting complainants' motion to terminate the present investigation in its entirety based on withdrawal of the complaint. The investigation is terminated.

FOR FURTHER INFORMATION CONTACT: Carl P. Bretscher, Office of the General Counsel, U.S. International Trade Commission, 500 E Street SW, Washington, DC 20436, telephone (202) 205-2382. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On December 30, 2019, the Commission instituted the present investigation on a complaint, as supplemented, filed by Extang Corporation and Laurmark Enterprises, Inc. (d/b/a Bak Industries) (collectively, “Complainants”), both of Ann Arbor, Michigan. 84 FR 71975-76 (Dec. 30, 2019). The complaint alleges a violation of Section 337 of the Tariff Act of 1930, as amended, 19 U.S.C. 1337 (“Section 337”), in the importation, sale for importation, and sale in the United States after importation of certain pick-up truck folding bed cover systems and components thereof by reason of infringement of certain claims of U.S. Patent Nos. 7,484,788 and 8,061,758 (“the 758 patent”). Id. The complaint further alleges that an industry exists in the United States. Id.

The notice of investigation names the following parties as respondents: Tyger Auto Inc. of Rialto, California; Cixi City Liyuan Auto Parts Co. of Zhejiang Province, China; and Hong Kong Car Start Industries Co., of Zhijian Province, China (collectively, “Respondents”). Id. The notice of investigation also names the Office of Unfair Import Investigations (“OUII”) as a party. Id.

On March 18, 2020, the presiding administrative law judge (“ALJ”) issued an ID (Order No. 6), granting Complainants' unopposed motion to amend the complaint and notice of investigation in order to supplement and clarify the allegations of the original complaint and notice of investigation regarding the 758 patent. The Commission determined not to review the ID. Comm'n Notice (April 17, 2020).

On September 22, 2020, the ALJ issued the subject ID (Order No. 18) granting Complainants' unopposed motion to terminate the investigation in its entirety based upon the withdrawal of the complaint. The ALJ finds no extraordinary circumstances that would prevent termination of this investigation, and no agreements, written or oral, express or implied, between the parties concerning the subject matter of the investigation. The ALJ also granted Complainants' request to stay the procedural schedule pending final resolution of this ID.

No party filed a petition for review of Order No. 18.

The Commission has determined not to review the subject ID. The investigation is terminated in its entirety.

The Commission voted to approve this determination on October 2, 2020.

The authority for the Commission's determination is contained in Section 337 of the Tariff Act of 1930, as amended (19 U.S.C. 1337), and in part 210 of the Commission's Rules of Practice and Procedure (19 CFR part 210).

By order of the Commission.
Issued: October 2, 2020.
Lisa Barton,
Secretary to the Commission.

[FR Doc. 2020-22230 Filed 10-7-20; 8:45 am]

BILLING CODE 7020-02-P